DEPARTMENT OF COMMERCE

National Oceanic and Atmospheric Administration

RIN 0648-XX38

Marine Mammals; File No. 14791

AGENCY: National Marine Fisheries Service (NMFS), National Oceanic and Atmospheric Administration (NOAA), Commerce.

ACTION: Notice; issuance of permit.

SUMMARY: Notice is hereby given that Douglas Nowacek, Ph.D., Duke University Marine Lab, Beaufort, NC, 28516, has been issued a permit to conduct research on North Atlantic right whales (Eubalaena glacialis).

ADDRESSES: The permit and related documents are available for review upon written request or by appointment in the following office(s):

Permits, Conservation and Education Division, Office of Protected Resources, NMFS, 1315 East-West Highway, Room 13705, Silver Spring, MD 20910; phone (301) 713-2289; fax (301) 713-0376;

Northeast Region, NMFS, 55 Great Republic Drive, Gloucester, MA 01930; phone (978) 281-9328; fax (978) 281-9394; and

Southeast Region, NMFS, 263 13th Avenue South, Saint Petersburg, Florida 33701; phone (727) 824-5312; fax (727) 824-5309.

FOR FURTHER INFORMATION CONTACT: Kate Swails or Carrie Hubard, (301)713-2289.

SUPPLEMENTARY INFORMATION: On November 24, 2009, notice was published in the Federal Register (74 FR 61331) that a request for a permit to conduct research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The primary research objective is to determine: (1) the natural behavioral patterns right whales exhibit to approaching vessels and (2) the ability of right whales to localize and detect vessels and other sounds in their environment. Researchers will conduct passive recording, attach a digital sound recording tag (DTAG) via suction cup, and collect samples of exhaled air and sloughed skin on up to 40 right whales per year. Up to 90 right whales may be incidentally harassed during the research. The research will take place along the eastern seaboard of the U.S. and the permit is issued for five years.

In compliance with the National Environmental Policy Act of 1969 (42 U.S.C. 4321 et seq.), an environmental assessment (EA) was prepared analyzing the effects of the permitted activities on the human environment. Based on the analyses in the EA, NMFS determined that issuance of the permit would not significantly impact the quality of the human environment and that preparation of an environmental impact statement was not required. That determination is documented in a Finding of No Significant Impact (FONSI), signed on July 1, 2010.

Issuance of this permit, as required by the ESA, was based on a finding that such permit: (1) was applied for in good faith; (2) will not operate to the disadvantage of such endangered species; and (3) is consistent with the purposes and policies set forth in section 2 of the ESA.

Dated: July 6, 2010.
Tammy C. Adams,
Acting Chief, Permits, Conservation and Education Division, Office of Protected Resources, National Marine Fisheries Service.

[FR Doc. 2010-16921 Filed 7-9-10; 8:45 am]

BILLING CODE 3510-22-S